DEPARTMENT OF HEALTH AND HUMAN SERVICES

Centers for Medicare & Medicaid Services

[Document Identifier: CMS-10185]

Emergency Clearance: Public Information Collection; Requirements Submitted to the Office of Management and Budget (OMB); Correction

AGENCY: Centers for Medicare & Medicaid Services (CMS), HHS.

ACTION: Correction of notice.

SUMMARY: This document corrects an incorrect date that appeared in the notice [Document Identifier: CMS-10185] titled “Emergency Clearance: Public Information Collection Requirements Submitted to the Office of Management and Budget (OMB)” that was published in the Federal Register on March 3, 2006 (71 FR 10976).

FOR FURTHER INFORMATION CONTACT: Bonnie L. Harkless, (410) 786-5666.

SUPPLEMENTARY INFORMATION:

I. Background

In FR Doc. 06-1921, of March 3, 2006 (70 FR 10976), we published a notice requesting an emergency review of a new information collection for Medicare Part D Reporting Requirements. We requested this Paperwork Reduction Act clearance under an emergency approval process to meet the statutorily-mandated reporting requirements under the Medicare Prescription Drug, Improvement, and Modernization Act of 2003 and to accommodate the operational schedule for the bidding process for prospective and renewing Part D Sponsors.

II. Explanation of Error

In the March 3, 2006 notice, there was an incorrect due date by which interested persons were invited to send comments regarding the burden or any other aspect of the collections of information requirements that were the subject of the notice. The date was incorrectly set forth as April 14, 2006. The correct date by which comments should be submitted is April 3, 2006.

III. Correction of Error

In FR Doc. 06-1921 of March 3, 2006 (71 FR 10976), make the following correction:

On page 10977, in the first column, in the first full paragraph in that column, in the last line of the paragraph, the date “April 14, 2006” is corrected to read “April 3, 2006.”

Dated: March 8, 2006.
Michelle Shortt,
Director, Regulations Development Group, Office of Strategic Operations and Regulatory Affairs, Centers for Medicare & Medicaid Services.

[FR Doc. E6-3846 Filed 3-16-06; 8:45 am]

BILLING CODE 4120-01-P